DEPARTMENT OF COMMERCE

International Trade Administration

[A-570-862]

Notice of Amended Final Determination of Sales at Less Than Fair Value and Antidumping Duty Order: Foundry Coke Products From The People's Republic of China

AGENCY: Import Administration, International Trade Administration, Department of Commerce.

ACTION: Notice of antidumping duty order and amendment to final determination.

EFFECTIVE DATE: September 17, 2001.

FOR FURTHER INFORMATION CONTACT: Doreen Chen, Alex Villanueva, Marlene Hewitt, Import Administration, International Trade Administration, U.S. Department of Commerce, 14th Street and Constitution Avenue NW., Washington, DC 20230; telephone: (202) 482-0193, 482-6412, 482-1385, respectively.

The Applicable Statute

Unless otherwise indicated, all citations to the statute are references to the provisions effective January 1, 1995, the effective date of the amendments made to the Tariff Act of 1930 (“the Act”) by the Uruguay Round Agreements Act. In addition, unless otherwise indicated, all citations to the Department's regulations are to the regulations at 19 CFR part 351 (April 2000).

Scope of Investigation

For purposes of this investigation, the product covered is coke larger than 100 mm (4 inches) in maximum diameter and at least 50 percent of which is retained on a 100-mm (4 inch) sieve, of a kind used in foundries.

The foundry coke products subject to this investigation were classifiable under subheading 2704.00.00.10 (as of Jan. 1, 2000) and are currently classifiable under subheading 2704.00.00.11 (as of July 1, 2000) of the Harmonized Tariff Schedule of the United States (“HTSUS”). Although the HTSUS subheadings are provided for convenience and Customs purposes, our written description of the scope of this investigation is dispositive.

Antidumping Duty Order

In accordance with section 735(a) of the Tariff Act, the Department made its final determination that foundry coke from the People's Republic of China (“PRC”) is being sold at less than fair value. See Notice of Final Determination of Sales at Less Than Fair Value: Foundry Coke Products from the People's Republic of China (“PRC”) (“Foundry Coke Final”), 66 FR 39487 (July 31, 2001). We received ministerial error allegations from respondents and upon consideration of these allegations, we issued an Amended Final Determination. See Notice of Amended Final Determination of Sales at Less Than Fair Value: Foundry Coke from the PRC (“Foundry Coke Amended Final”), 66 FR 45962 (August 31, 2001).

On August 30, 2001, CITIC Trading Co., Ltd (“CITIC”), an exporter of the merchandise subject to the above-referenced investigation, submitted a ministerial error allegation with respect to the Foundry Coke Amended Final. Respondent argued that in calculating the margin, the Department arrived at an incorrect total U.S. price. According to the respondent, the Department used the U.S. price for only the first shipment when calculating the total U.S. price. Moreover, the respondent argued that the Department should have calculated the total price on a weighted-average of both the first and second shipments. We did not receive comments on the respondent's ministerial error allegation of August 30, 2001, from any other interested parties. We agree with the respondent that the Department did not reference the correct U.S. price when calculating the margin and should have used the weighted-average U.S. price when calculating the total U.S. price. Accordingly, we have revised the margin calculation program using the appropriate weighted-average U.S. price between both shipments. See Analysis Memo for the Amended Final Determination of the Antidumping Duty Investigation of Foundry Coke Products from the PRC: CITIC, August 31, 2001 at 2.

On September 5, 2001, in accordance with section 735(d) of the Act, the International Trade Commission (“the Commission”) notified the Department of its final determination pursuant to section 735(b)(1)(A)(e) of the Tariff Act that an industry in the United States is materially injured by reason of less-than-fair-value imports of subject merchandise from the PRC. Therefore, in accordance with section 736(a)(1) of the Act, the Department will direct U.S. Customs to assess, upon further advice by the Department, antidumping duties equal to the amount by which the normal value of the merchandise exceeds the export price of the merchandise for all relevant entries of foundry coke from the PRC. These antidumping duties will be assessed on all unliquidated entries of foundry coke form the PRC entered, or withdrawn from the warehouse, for consumption on or after March 8, 2001, the date on which the Department published its Notice of Preliminary Determination of Sales at Less Than Fair Value: Foundry Coke From the People's Republic of China. (66 FR 13885). On of after that date, Customs must require, at the same time as importers would normally deposit estimated duties on this merchandise, a cash deposit equal to the estimated weighted-average antidumping duty margins as noted below. The “All Others” rates apply to all exporters of subject merchandise not specifically listed. The weighted-average dumping margins are as follows:

Manufacturer/exporter | Weighted average/ margin (percent)
Shanxi Dajin International (Group) Co. Ltd | 101.62
Sinochem International Co., Ltd | 105.91
Minmetals Townlord Technology Co. Ltd | 75.58
CITIC Trading Company, Ltd | 48.55
PRC-Wide Rate | 214.89

This notice constitutes the antidumping duty order with respect to foundry coke from the PRC. Interested parties may contact the Department's Central Records Unit, Room B-099 of the main Commerce building, for copies of an updated list of antidumping duty orders currently in effect.

This order is published in accordance with section 736(a) of the Act.

Dated: September 10, 2001.
Faryar Shirzad,
Assistant Secretary for Import Administration.

[FR Doc. 01-23174 Filed 9-14-01; 8:45 am]

BILLING CODE 3510-DS-P